ENVIRONMENTAL PROTECTION AGENCY

[FRL-6584-1]

Agency Information Collection Activities: Proposed Collection; Comment Request; Business Ownership Representation

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): Business Ownership Representation EPA ICR No. 1962.01. Before submitting the ICR to OMB for review and approval, EPA is soliciting comments on specific aspects of the proposed information collection as described below.

DATES: Comments must be submitted on or before June 23, 2000.

ADDRESSES: 1200 Pennsylvania Ave N.W., Ariel Rios Building, Attn: 3802R, Washington, D.C. 20406.

FOR FURTHER INFORMATION CONTACT: Leigh Pomponio, (202) 564-4364, e-mail pomponio.leigh@epamail.epa.gov. A hard copy of the ICR may be obtained by contacting the named individual.

SUPPLEMENTARY INFORMATION: Affected entities: Entities potentially affected by this action are those companies and organizations, large and small businesses, who receive contract awards from EPA.

Title: Business Ownership Representation, EPA ICR No. 1962.01.

Abstract: EPA will request that contractors selected for award reply to the Business Ownership Representation clause by checking the appropriate box to indicate the ethnic affiliation of the company ownership. EPA will use the collected information in aggregate to encourage full participation in the contractor selection process by identifying business communities that are under-represented in Agency awards, and sponsoring outreach efforts in those areas. Responses to the collection of information are voluntary. Responses will be treated as confidential business information in accordance with 40 CFR 2.201 et seq. An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: Estimated burden for each response is three minutes, or a total of 12 hours per year based upon 240 annual contract awards. The total annual cost for all respondents is expected to be $1,050.00 per year. There are no contractor capital or start-up costs associated with this collection. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: April 18, 2000.
Thomas D. McEntegart,
Manager, Policy Service Center.

[FR Doc. 00-10187 Filed 4-21-00; 8:45 am]

BILLING CODE 6560-50-P